DEPARTMENT OF HOMELAND SECURITY

Federal Emergency Management Agency

[Docket ID: FEMA-2009-0001]

Agency Information Collection Activities: Proposed Collection; Comment Request, 1660-0025; FEMA Grants Administration/ND Grants System

AGENCY: Federal Emergency Management Agency, DHS.

ACTION: Notice; 60-day notice and request for comments; revision of a currently approved information collection; OMB No. 1660-0025; FEMA Form 20-15, Budget Information—Construction; 20-16, 20-16A, 20-16B, 20-16C, Summary Sheet for Assurances and Certifications; 20-17, Outlay Report and Request for Reimbursement for Construction Program; 20-18, Report of Government Property; 20-19, Reconciliation of Grants and Cooperative Agreements; 20-20, Budget Information—Non-construction; 76-10, Obligating Document for Award/Amendment; 089-9, Detailed Budget Worksheet.

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning the collection of financial and administrative information required to evaluate an application for one or more of the grants that the Federal Emergency Management Agency administers.

DATES: Comments must be submitted on or before January 19, 2010.

ADDRESSES: To avoid duplicate submissions to the docket, please use only one of the following means to submit comments:

(1) Online. Submit comments at www.regulations.gov under docket ID FEMA-2009-0001. Follow the instructions for submitting comments.

(2) Mail. Submit written comments to Office of Chief Counsel, Regulation and Policy Team, DHS/FEMA, 500 C Street, SW., Room 835, Wash., DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Erin Hutchinson, Staff Accountant, Grant Programs Directorate, 202-786-9536 for additional information. You may contact the Records Management Branch for copies of the proposed collection of information at facsimile number (202) 646-3347 or e-mail address: FEMA-Information-Collections@dhs.gov.

SUPPLEMENTARY INFORMATION: Title 44 CFR, part 13, Uniform Administrative Requirements for Grants and Cooperative Agreements to State and Local Government, establishes uniform administrative rules for Federal grants and cooperative agreements and sub-awards to State, local and Indian tribal governments. FEMA has determined that in order to have consistent implementation of FEMA grant administration policies and to minimize the administrative disruption for State and local partners, it is necessary to standardize FEMA grant administration forms used in FEMA grant programs. The forms are designed to collect information of an administrative or financial nature. With Nondisaster (ND) Grants, FEMA seeks to meet the intent of the E-Government initiative, authorized by Public Law 106-107 passed on November 20, 1999 that requires that all government agencies both streamline grant application processes and provide for the means to electronically create, review, and submit a grant application via the Internet.

Collection of Information

Title: FEMA Grants Administration/ND Grants System.

Type of Information Collection: Revision of a currently approved information collection.

OMB Number: 1660-0025.

Form Titles and Numbers: FEMA Form 20-15, Budget Information—Construction; 20-16, 20-16A, 20-16B, 20-16C, Summary Sheet for Assurances and Certifications; 20-17, Outlay Report and Request for Reimbursement for Construction Program; 20-18, Report of Government Property; 20-19, Reconciliation of Grants and Cooperative Agreements; 20-20, Budget Information—Non-construction; 76-10, Obligating Document for Award/Amendment; 089-9, Detailed Budget Worksheet.

Abstract: The grant programs included in this collection are important tools among a comprehensive set of measures to help strengthen the Nation against risk associated with potential terrorist attacks, natural and other disasters, as well as to plan and implement mitigation efforts to prevent such occurrences. FEMA uses the information to evaluate applications for grants for various disaster related and non-disaster grant opportunities which it administers. FEMA is also implementing the use of the ND Grants System to electronically accept grant applications from a subset of all non-disaster grants currently administered by FEMA with the intention of expanding this function to other non-disaster grants as soon as possible.

Affected Public: State, Local or Tribal Governments; Not-for-profit institutions; Business or other for-profit.

Estimated Total Annual Burden Hours: 2,072,220 Hours.

FEMA Administrative Forms

Table A.12—Estimated Annualized Burden Hours and Costs
Type of respondent | Form name/form number | Number of respondents | Number of responses per respondent | Total number of responses | Avg. burden per response (in hours) | Total annual burden (in hours) | Avg. hourly wage rate ($) | Total annual respondent cost ($)
Disaster Programs Public Assistance Grants
State, Local or Tribal Government | Budget Information—Non-construction Programs/FEMA Form 20-20 | 56 | 1 | 56 | 9.7 | 543 | 36.15 | 19,636.68
State, Local or Tribal Government | Assurances and Summary Sheet for Assurances/FEMA Forms 20-16, A, B, C | 56 | 1 | 56 | 1.7 | 95 | 36.15 | 3,441.48
Subtotal |  |  |  | 112 |  | 638 |  | 23,078.16
Multiply above subtotal by 57—represents the number of disasters each grant applies to
Total |  |  |  | 6,384 |  | 36,389 |  | 1,315,455.12
S Crisis Counseling
State, Local or Tribal Government | Budget Information—Non-construction Programs/FEMA Form 20-20 | 17 | 1 | 17 | 9.7 | 165 | 55.30 | 9,118.97
State, Local or Tribal Government | Assurances and Summary Sheet for Assurances/FEMA Forms 20-16, A, B, C | 17 | 1 | 17 | 1.7 | 29 | 55.30 | 1,598.17
Subtotal |  |  |  | 34 |  | 194 |  | 10,717.14
Multiply above subtotal by 57—represents the number of disasters each grant applies to
Total |  |  |  | 1,938 |  | 11,047 |  | 610,876.98
Other Needs Assistance
State, Local or Tribal Government | Budget Information—Non-construction Programs/FEMA Form 20-20 | 40 | 1 | 40 | 9.7 | 388 | 43.11 | 16,726.68
State, Local or Tribal Government | Assurances and Summary Sheet for Assurances/FEMA Forms 20-16, A, B, C | 40 | 1 | 40 | 1.7 | 68 | 43.11 | 2,931.48
Subtotal |  |  |  | 80 |  | 456 |  | 19,658.16
Multiply above subtotal by 57—represents the number of disasters each grant applies to
Total |  |  |  | 4,560 |  | 25,992 |  | 1,120,515.12
Hazard Mitigation Grant Program
State, Local or Tribal Government | Budget Information—Non-construction Programs/FEMA Form 20-20 | 52 | 15 | 780 | 9.7 | 7,566 | 42.00 | 317,772.00
State, Local or Tribal Government | Assurances and Summary Sheet for Assurances/FEMA Forms 20-16, A, B, C | 52 | 1 | 52 | 1.7 | 88 | 42.00 | 3,712.80
State, Local or Tribal Government | Outlay Report and Request for Reimbursement for Construction Programs/FEMA Form 20-17 | 52 | 15 | 780 | 17.2 | 13,416 | 42.00 | 563,472.00
State, Local or Tribal Government | Report of Government Property/FEMA Form 20-18 | 52 | 6 | 312 | 4.2 | 1,310 | 42.00 | 55,036.80
State, Local or Tribal Government | Reconciliation of Grants and Cooperative Agreements/FEMA Form 20-19 | 52 | 6 | 312 | 0.084 | 26 | 42.00 | 1,100.74
Subtotal |  |  |  | 2,236 |  | 22,407 |  | 941,094.34
Multiply total by 57—represents number of disasters grant applies to
Total |  |  |  | 127,452 |  | 1,277,199 |  | 53,642,377.15
Fire Management Assistance Grant Program
State, Local or Tribal Government | Budget Information—Non-construction Programs/FEMA Form 20-20 | 36 | 4 | 144 | 9.7 | 1,397 | 37.58 | 52,491.74
State, Local or Tribal Government | Assurances and Summary Sheet for Assurances/FEMA Forms 20-16, A, B, C | 36 | 4 | 144 | 1.7 | 245 | 37.58 | 9,199.58
State, Local or Tribal Government | Budget Information—Construction Forms/FEMA Form 20-15 | 36 | 4 | 144 | 17.2 | 2,477 | 37.58 | 93,078.14
State, Local or Tribal Government | Report of Government Property/FEMA Form 20-18 | 36 | 4 | 144 | 4.2 | 605 | 37.58 | 22,728.38
State, Local or Tribal Government | Reconciliation of Grants and Cooperative Agreements/FEMA Form 20-19 | 36 | 4 | 144 | 0.084 | 12 | 37.58 | 454.57
Subtotal |  |  |  | 720 |  | 4,735 |  | 177,952.42
Multiply total by 94—represents number of disasters grant applies to
Total |  |  |  | 67,680 |  | 445,118 |  | 16,727,527.83
Totals for Disaster-Related Grants | 208,014 |  | 1,795,745 |  | 73,416,752.20
Non-Disaster Grant Programs
National Urban Search and Rescue Response System (97.025)
State, Local or Tribal Government | Budget Information—Non-construction Programs/FEMA Form 20-20 | 28 | 1 | 28 | 9.7 | 272 | 45.74 | 12,422.98
State, Local or Tribal Government | Assurances and Summary Sheet for Assurances/FEMA Forms 20-16, A, B, C | 28 | 1 | 28 | 1.7 | 48 | 45.74 | 2,177.22
State, Local or Tribal Government | Obligating Document for Awards/Amendments/FEMA Form 76-10A | 28 | 1 | 28 | 1.2 | 34 | 45.74 | 1,536.86
Total |  |  |  | 84 |  | 353 |  | 16,137.07
Community Assistance Program—State Support Services Element (97.023)
State, Local or Tribal Government | Budget Information—Non-construction Programs/FEMA Form 20-20 | 56 | 1 | 56 | 9.7 | 543 | 36.15 | 19,636.68
State, Local or Tribal Government | Budget Information—Construction/FEMA Form 20-15 | 56 | 1 | 56 | 17.2 | 963 | 36.15 | 34,819.68
State, Local or Tribal Government | Assurances and Summary Sheet for Assurances/FEMA Forms 20-16, A, B, C | 56 | 1 | 56 | 1.7 | 95 | 36.15 | 3,441.48
State, Local or Tribal Government | Obligating Document for Awards/Amendments/FEMA Form 76-10A | 56 | 1 | 56 | 1.2 | 67 | 36.15 | 2,429.28
State, Local or Tribal Government | Report of Government Property/FEMA Form 20-18 | 56 | 1 | 56 | 4.2 | 235 | 36.15 | 8,502.48
State, Local or Tribal Government | Reconciliation of Grants and Cooperative Agreements/FEMA Form 20-19 | 56 | 1 | 56 | 0.084 | 5 | 36.15 | 170.05
Total |  |  |  | 336 |  | 1,909 |  | 68,999.65
Chemical Stockpile Emergency Preparedness Program (97.040)
State, Local or Tribal Government | Budget Information—Non-construction Programs/FEMA Form 20-20 | 10 | 1 | 10 | 9.7 | 97 | 31.91 | 3,095.27
State, Local or Tribal Government | Assurances and Summary Sheet for Assurances/FEMA Forms 20-16, A, B, C | 10 | 1 | 10 | 1.7 | 17 | 31.91 | 542.47
State, Local or Tribal Government | Obligating Document for Awards/Amendments/FEMA Form 76-10A | 10 | 1 | 10 | 1.2 | 12 | 31.91 | 382.92
State, Local or Tribal Government | Report of Government Property/FEMA Form 20-18 | 10 | 1 | 10 | 4.2 | 42 | 31.91 | 1,340.22
State, Local or Tribal Government | Reconciliation of Grants and Cooperative Agreements/FEMA Form 20-19 | 10 | 1 | 10 | 0.084 | 1 | 31.91 | 26.80
Total |  |  |  | 50 |  | 169 |  | 5,387.68
National Dam Safety Program
State, Local or Tribal Government | Budget Information—Non-construction Programs/FEMA Form 20-20 | 51 | 1 | 51 | 9.7 | 495 | 36.15 | 17,883.41
State, Local or Tribal Government | Assurances and Summary Sheet for Assurances/FEMA Forms 20-16, A, B, C | 51 | 1 | 51 | 1.7 | 87 | 36.15 | 3,134.21
State, Local or Tribal Government | Obligating Document for Awards/Amendments/FEMA Form 76-10A | 51 | 1 | 51 | 1.2 | 61 | 36.15 | 2,212.38
Total |  |  |  | 153 |  | 643 |  | 23,229.99
Earthquake Consortium (EqC) (97.082)
Total |  |  |  | 0 |  | 0 |  | 0.00
Disaster Donations Management Program (AIDMATRRIX) (97.098)
State, Local or Tribal Government | Budget Information—Non-construction Programs/FEMA Form 20-20 | 1 | 1 | 1 | 9.7 | 10 | 36.15 | 350.66
State, Local or Tribal Government | Assurances and Summary Sheet for Assurances/FEMA Forms 20-16, A, B, C | 1 | 1 | 1 | 1.7 | 2 | 36.15 | 61.46
Total |  |  |  | 2 |  | 11 |  | 412.11
Alternative Housing Pilot Program (AHPP) (97.087)
State, Local or Tribal Government | Budget Information—Non-construction Programs/FEMA Form 20-20 | 4 | 1 | 4 | 9.7 | 39 | 36.15 | 1,402.62
State, Local or Tribal Government | Assurances and Summary Sheet for Assurances/FEMA Forms 20-16, A, B, C | 4 | 1 | 4 | 1.7 | 7 | 36.15 | 245.82
Total |  |  |  | 8 |  | 46 |  | 1,648.44
Cooperating Technical Partners (CTP) (97.045)
State, Local or Tribal Government | Budget Information—Non-construction Programs/FEMA Form 20-20 | 20 | 1 | 20 | 9.7 | 194 | 36.15 | 7,013.10
State, Local or Tribal Government | Budget Information—Construction/FEMA Form 20-15 | 20 | 1 | 20 | 17.2 | 344 | 36.15 | 12,435.60
State, Local or Tribal Government | Assurances and Summary Sheet for Assurances/FEMA Forms 20-16, A, B, C | 20 | 1 | 20 | 1.7 | 34 | 36.15 | 1,229.10
Total |  |  |  | 60 |  | 572 |  | 20,677.80
Map Modernization Management Support (MMMS) (97.070)
State, Local or Tribal Government | Budget Information—Non-construction Programs/FEMA Form 20-20 | 20 | 1 | 20 | 9.7 | 194 | 36.15 | 7,013.10
State, Local or Tribal Government | Budget Information—Construction/FEMA Form 20-15 | 20 | 1 | 20 | 17.2 | 344 | 36.15 | 12,435.60
State, Local or Tribal Government | Assurances and Summary Sheet for Assurances/FEMA Forms 20-16, A, B, C | 20 | 1 | 20 | 1.7 | 34 | 36.15 | 1,229.10
Total |  |  |  | 60 |  | 572 |  | 20,677.80
New Repetitive Flood Claims (RFC) (97.092)
State, Local or Tribal Government | Budget Information—Non-construction Programs/FEMA Form 20-20 | 56 | 1 | 56 | 9.7 | 543 | 36.15 | 19,636.68
State, Local or Tribal Government | Obligating Document for Awards/Amendments/FEMA Form 76-10A | 56 | 1 | 56 | 1.2 | 67 | 36.15 | 2,429.28
State, Local or Tribal Government | Assurances and Summary Sheet for Assurances/FEMA Forms 20-16, A, B, C | 56 | 1 | 56 | 1.7 | 95 | 36.15 | 3,441.48
State, Local or Tribal Government | Report of Government Property/FEMA Form 20-18 | 56 | 1 | 56 | 4.2 | 235 | 36.15 | 8,502.48
State, Local or Tribal Government | Reconciliation of Grants and Cooperative Agreements/FEMA Form 20-19 | 56 | 1 | 56 | 0.084 | 5 | 36.15 | 170.05
Total |  |  |  | 280 |  | 946 |  | 34,179.97
Flood Mitigation Assistance (FMA) (97.029)
State, Local or Tribal Government | Budget Information—Non-construction Programs/FEMA Form 20-20 | 56 | 3 | 168 | 9.7 | 1,630 | 36.15 | 58,910.04
State, Local or Tribal Government | Assurances and Summary Sheet for Assurances/FEMA Forms 20-16, A, B, C | 56 | 1 | 56 | 1.7 | 95 | 36.15 | 3,441.48
State, Local or Tribal Government | Obligating Document for Awards/Amendments/FEMA Form 76-10A | 56 | 3 | 168 | 1.2 | 202 | 36.15 | 7,287.84
State, Local or Tribal Government | Report of Government Property/FEMA Form 20-18 | 56 | 1 | 56 | 4.2 | 235 | 36.15 | 8,502.48
State, Local or Tribal Government | Reconciliation of Grants and Cooperative Agreements/FEMA Form 20-19 | 56 | 1 | 56 | 0.084 | 5 | 36.15 | 170.05
Total |  |  |  | 504 |  | 2,166 |  | 78,311.89
Pre-Disaster Mitigation (PDM) (97.047)
State, Local or Tribal Government | Budget Information—Construction/FEMA Form 20-15 | 56 | 1 | 56 | 17.2 | 963 | 36.15 | 34,819.68
State, Local or Tribal Government | Budget Information—Non-construction Programs/FEMA Form 20-20 | 56 | 2 | 112 | 9.7 | 1,086 | 36.15 | 39,273.36
State, Local or Tribal Government | Obligating Document for Awards/Amendments/FEMA Form 76-10A | 56 | 2 | 112 | 1.2 | 134 | 36.15 | 4,858.56
State, Local or Tribal Government | Assurances and Summary Sheet for Assurances/FEMA Forms 20-16, A, B, C | 56 | 2 | 112 | 1.7 | 190 | 36.15 | 6,882.96
State, Local or Tribal Government | Outlay Report and Request for Reimbursement for Construction Programs/FEMA Form 20-17 | 56 | 20 | 1,120 | 17.2 | 19,264 | 36.15 | 696,393.60
State, Local or Tribal Government | Report of Government Property/FEMA Form 20-18 | 56 | 2 | 112 | 4.2 | 470 | 36.15 | 17,004.96
State, Local or Tribal Government | Reconciliation of Grants and Cooperative Agreements/FEMA Form 20-19 | 56 | 2 | 112 | 0.084 | 9 | 36.15 | 340.10
Total |  |  |  | 1,736 |  | 22,118 |  | 799,573.22
Assistance to Firefighters Grant (AFG) (97.044)
Not-for-profit institutions | Budget Information—Non-construction Programs/FEMA Form 20-20 | 4,948 | 2 | 9,896 | 9.7 | 95,991 | 38.50 | 3,695,661.20
Not-for-profit institutions | Obligating Document for Awards/Amendments/FEMA Form 76-10A | 4,948 | 2 | 9,896 | 1.2 | 11,875 | 38.50 | 457,195.20
Not-for-profit institutions | Assurances and Summary Sheet for Assurances/FEMA Forms 20-16, A, B, C | 4,948 | 1 | 4,948 | 1.7 | 8,412 | 38.50 | 323,846.60
Not-for-profit institutions | Outlay Report and Request for Reimbursement for Construction Programs/FEMA Form 20-17 | 4,948 | 1 | 4,948 | 17.2 | 85,106 | 38.50 | 3,276,565.60
Not-for-profit institutions | Report of Government Property/FEMA Form 20-18 | 4,948 | 1 | 4,948 | 4.2 | 20,782 | 38.50 | 800,091.60
Not-for-profit institutions | Reconciliation of Grants and Cooperative Agreements/FEMA Form 20-19 | 4,948 | 1 | 4,948 | 0.084 | 416 | 38.50 | 16,001.83
Total |  |  |  | 39584 |  | 222,581 |  | 8,569,362.03
Fire Prevention and Safety (FP&S) (97.044)
Not-for-profit institutions | Budget Information—Non-construction Programs/FEMA Form 20-20 | 218 | 2 | 436 | 9.7 | 4,229 | 38.50 | 162,824.20
Not-for-profit institutions | Obligating Document for Awards/Amendments/FEMA Form 76-10A | 218 | 2 | 436 | 1.2 | 523 | 38.50 | 20,143.20
Not-for-profit institutions | Assurances and Summary Sheet for Assurances/FEMA Forms 20-16, A, B, C | 218 | 1 | 218 | 1.7 | 371 | 38.50 | 14,268.10
Not-for-profit institutions | Outlay Report and Request for Reimbursement for Construction Programs/FEMA Form 20-17 | 218 | 1 | 218 | 17.2 | 3,750 | 38.50 | 144,359.60
Not-for-profit institutions | Report of Government Property/FEMA Form 20-18 | 218 | 1 | 218 | 4.2 | 916 | 38.50 | 35,250.60
Not-for-profit institutions | Reconciliation of Grants and Cooperative Agreements/FEMA Form 20-19 | 218 | 1 | 218 | 0.084 | 18 | 38.50 | 705.01
Total |  |  |  | 1,744 |  | 9,807 |  | 377,550.71
Staffing for Adequate Fire and Emergency Response (SAFER) (97.083)
Not-for-profit institutions | Budget Information—Non-construction Programs/FEMA Form 20-20 | 262 | 2 | 524 | 9.7 | 5,083 | 44.24 | 224,863.07
Not-for-profit institutions | Obligating Document for Awards/Amendments/FEMA Form 76-10A | 262 | 2 | 524 | 1.2 | 629 | 44.24 | 27,818.11
Not-for-profit institutions | Assurances and Summary Sheet for Assurances/FEMA Forms 20-16, A, B, C | 262 | 1 | 262 | 1.7 | 445 | 44.24 | 19,704.50
Not-for-profit institutions | Outlay Report and Request for Reimbursement for Construction Programs/FEMA Form 20-17 | 262 | 1 | 262 | 17.2 | 4,506 | 44.24 | 199,363.14
Not-for-profit institutions | Report of Government Property/FEMA Form 20-18 | 262 | 1 | 262 | 4.2 | 1,100 | 44.24 | 48,681.70
Not-for-profit institutions | Reconciliation of Grants and Cooperative Agreements/FEMA Form 20-19 | 262 | 1 | 262 | 0.084 | 22 | 44.24 | 973.63
Total |  |  |  | 2096 |  | 11,786 |  | 521,404.15
New Severe Repetitive Loss (SRL)
State, Local or Tribal Government | Budget Information—Non-construction Programs/FEMA Form 20-20 | 56 | 1 | 56 | 9.7 | 543 | 36.15 | 19,636.68
State, Local or Tribal Government | Obligating Document for Awards/Amendments/FEMA Form 76-10A | 56 | 1 | 56 | 1.2 | 67 | 36.15 | 2,429.28
State, Local or Tribal Government | Assurances and Summary Sheet for Assurances/FEMA Forms 20-16, A, B, C | 56 | 1 | 56 | 1.7 | 95 | 36.15 | 3,441.48
State, Local or Tribal Government | Report of Government Property/FEMA Form 20-18 | 56 | 1 | 56 | 4.2 | 235 | 36.15 | 8,502.48
State, Local or Tribal Government | Reconciliation of Grants and Cooperative Agreements/FEMA Form 20-19 | 56 | 1 | 56 | 0.084 | 5 | 36.15 | 170.05
Total |  |  |  | 280 |  | 946 |  | 34,179.97
Homeland Security Grant Program (HSGP) (97.067)
State, Local or Tribal Government | ND Grants System Uploading Documents | 56 | 1 | 56 | 0.167 | 9 | 32.20 | 301.13
Total |  |  |  | 56 |  | 9 |  | 301.13
Interoperable Emergency Communications Grant Program (IECGP) (97.001)
State, Local or Tribal Government | ND Grants System Uploading Documents | 56 | 1 | 56 | 0.167 | 9 | 36.15 | 338.07
Total |  |  |  | 56 |  | 9 |  | 338.07
Emergency Operations Center Grant Program (EOC) (97.052)
State, Local or Tribal Government | ND Grants System Uploading Documents | 56 | 1 | 56 | 0.167 | 9 | 36.15 | 338.07
Total |  |  |  | 56 |  | 9 |  | 338.07
Urban Areas Security Initiative Nonprofit Security Grant Program (USAI NSGP) (97.008)
State, Local or Tribal Government | ND Grants System Uploading Documents | 56 | 1 | 56 | 0.167 | 9 | 36.15 | 338.07
Total |  |  |  | 56 |  | 9 |  | 338.07
Operation Stonegarden (OPSG) (97.067)
State, Local or Tribal Government | ND Grants System Uploading Documents | 39 | 1 | 39 | 0.167 | 7 | 37.80 | 246.19
Total |  |  |  | 39 |  | 7 |  | 246.19
Transit Security Grant Program (TSPG) (97.075)
Business or other for profit | Detailed Budget Worksheet/FEMA Form 089-9 | 123 | 1 | 123 | 0.28 | 34.44 | 33.60 | 1,157.18
State, Local or Tribal Government | ND Grants System Uploading Documents | 123 | 1 | 123 | 0.167 | 20.541 | 33.60 | 690.18
Total |  |  |  | 246 |  | 55 |  | 1,847.36
Port Security Grant Program (PSGP) (97.056)
State, Local or Tribal Government | Detailed Budget Worksheet/FEMA Form 089-9 | 240 | 1 | 240 | 0.27 | 65 | 33.60 | 2,177.28
State, Local or Tribal Government | ND Grants System Uploading Documents | 240 | 1 | 240 | 0.167 | 40.08 | 33.60 | 1,346.69
Total |  |  |  | 480 |  | 105 |  | 3,523.97
Freight Rail Security Grant Program (FRSGP)
State, Local or Tribal Government | Detailed Budget Worksheet/FEMA Form 089-9 | 400 | 1 | 400 | 3.3 | 1,320 | 30.31 | 40,009.20
State, Local or Tribal Government | ND Grants System Uploading Documents | 400 | 1 | 400 | 0.167 | 66.8 | 30.31 | 2,024.71
Total |  |  |  | 800 |  | 1,387 |  | 42,033.91
Trucking Security Program (TSP) (97.059)
Business or other for profit | Detailed Budget Worksheet/FEMA Form 089-9 | 25 | 1 | 25 | 0.02 | 1 | 26.60 | 13.30
Business or other for profit | ND Grants System Uploading Documents | 25 | 1 | 25 | 0.167 | 4.175 | 26.60 | 111.06
Total |  |  |  | 50 |  | 5 |  | 124.36
Intercity Bus Security Grant Program (IBSGP) (97.057)
Business or other for-profit | Detailed Budget Worksheet/FEMA Form 089-9 | 56 | 1 | 56 | 0.08 | 4 | 25.97 | 116.35
Business or other for profit | ND Grants System Uploading Documents | 56 | 1 | 56 | 0.167 | 9.352 | 25.97 | 242.87
Total |  |  |  | 112 |  | 14 |  | 359.22
Regional Catastrophic Preparedness Grant Program (RCPGP) (97.111)
State, Local or Tribal Government | Detailed Budget Worksheet/FEMA Form 089-9 | 10 | 1 | 10 | 0.67 | 7 | 50.08 | 335.54
State, Local or Tribal Government | ND Grants System Uploading Documents | 10 | 1 | 10 | 0.167 | 1.67 | 50.08 | 83.63
Total |  |  |  | 20 |  | 8 |  | 419.17
Emergency Management Performance Grants (EMPG) (97.042)
State, Local or Tribal Government | Detailed Budget Worksheet/FEMA Form 089-9 | 58 | 1 | 58 | 3.33 | 193 | 32.20 | 6,219.11
State, Local or Tribal Government | ND Grants System Uploading Documents | 58 | 1 | 58 | 0.167 | 9.686 | 32.20 | 311.89
Total |  |  |  | 116 |  | 203 |  | 6,531.00
Buffer Zone Protection Program (BZPP) (97.078)
State, Local or Tribal Government | ND Grants System Uploading Documents | 56 | 1 | 56 | 0.167 | 9 | 36.15 | 338.07
Total |  |  |  | 56 |  | 9 |  | 338.07
Driver License Security Grant Program (DLSGP) (90.089)
State, Local or Tribal Government | Detailed Budget Worksheet/FEMA Form 089-9 | 56 | 1 | 56 | 0.25 | 14 | 32.20 | 450.80
State, Local or Tribal Government | ND Grants System Uploading Documents | 56 | 1 | 56 | 0.167 | 9.352 | 32.20 | 301.13
Total |  |  |  | 112 |  | 23 |  | 751.93
Total for Non-Disaster Grant Programs | 49,232 |  | 276,476 |  | 10,629,223.02
Totals for Disaster-Related Grants | 208,014 |  | 1,795,745 |  | 73,416,752.20
Total for all Grant Programs | 257,246 |  | 2,072,220 |  | 84,045,975.22

Estimated Cost: There are no annual reporting or recordkeeping costs associated with this collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Records Management Division, Office of Management, Federal Emergency Management Agency, Department of Homeland Security.

[FR Doc. E9-27554 Filed 11-16-09; 8:45 am]

BILLING CODE 9111-78-P